ENVIRONMENTAL PROTECTION AGENCY

40 CFR Part 61

[FRL-6721-5]

National Emission Standards for Hazardous Air Pollutants; Standard for Emissions of Radionuclides Other Than Radon From Department of Energy Facilities; Standard for Radionuclide Emissions From Federal Facilities Other Than Nuclear Regulatory Commission Licensees and Not Covered by Subpart H

AGENCY: Environmental Protection Agency (EPA).

ACTION: Proposed rule; notice of public hearing.

SUMMARY: The Office of Radiation and Indoor Air, Radiation Protection Division, Center for Waste Management will hold a public hearing on the proposed rule to amend 40 CFR part 61, subpart H as it applies to operations at any facility owned or operated by the Department of Energy (DOE) that emits any radionuclide other than radon-222 and radon-220 into the air and Subpart I as it applies to non-DOE federal facilities in the radionuclide National Emission Standards Hazardous Air Pollutants (NESHAPs).

DATES: The hearing will be held on Wednesday, July 12, 2000, from 9 am to 12 pm.

ADDRESSES: The hearing will take place at the Ronald Reagan Building, 1200 Pennsylvania Avenue, Northwest, Washington, DC 20460 (accessed from the Federal Triangle Metro stop).

FOR FURTHER INFORMATION CONTACT: For information concerning the hearing, contact: Eleanor Thornton-Jones, Center for Waste Management, Office of Radiation and Indoor Air, U.S. Environmental Protection Agency, Mailstop 6608J, Ariel Rios Building, 1200 Pennsylvania Avenue, NW, Washington, DC 20460, by email: thornton.eleanord@epa.gov or by phone (202) 564-9773.

SUPPLEMENTARY INFORMATION: This meeting is open to any member of the public. Requests to participate in the public hearing should be made by phone (202) 564-9773 to Eleanor Thornton-Jones; by email: thornton.eleanord@epa.gov; or in writing to Eleanor Thornton-Jones, Center for Waste Management, Office of Radiation and Indoor Air, U.S. Environmental Protection Agency, Mailstop 6608J, Ariel Rios Building, 1200 Pennsylvania Avenue, NW, Washington, DC 20460. Requests may also be faxed to EPA at (202) 565-2065. Requests to participate in the hearing should include an outline of the topics to be addressed, the amount of time requested (20 minutes or less; if requests exceed currently scheduled time, additional hearing time may be added), and the names and addresses of the participants. EPA may also allow testimony to be given at the hearing without prior notice, subject to time restraints and at the discretion of the hearing officer. Three (3) copies of the testimony should be submitted at the time of appearance at the public hearing.

Dated: June 19, 2000.
Steve Page,
Director, Office of Radiation and Indoor Air, Air and Radiation.

[FR Doc. 00-15911 Filed 6-22-00; 8:45 am]

BILLING CODE 6560-50-M